DEPARTMENT OF ENERGY

Federal Energy Regulatory Commission

[Project No. 6411-004]

Valley Falls Associates; Albany Engineering Corporation; Notice of Transfer of Exemption

1. On January 15, 2025, pursuant to 18 CFR 4.106(i), Albany Engineering Corporation, on behalf of Valley Falls Associates, the transferee for the 2,500-kilowatt James Thompson Hydroelectric Project No. 6411, filed a letter notifying the Federal Energy Regulatory Commission (Commission) that the exemption was transferred from Valley Falls Associates to Albany Engineering Corporation. The James Thompson Hydroelectric Project No. 6411 was originally issued an exemption on March 5, 1984.¹ The project is located on the Hoosic River in the Towns of Pittstown and Schaghticoke, Rensselaer County, New York. The transfer of an exemption does not require Commission approval.

¹ James Thompson and Co., Inc., 26 FERC ¶ 62,193 (1984) (Order Granting Exemption from Licensing of a Small Hydroelectric Project of 5 Megawatts or Less).

2. Albany Engineering Corporation is now the exemptee of the James Thompson Hydroelectric Project No. 6411. All correspondence regarding the project should be directed to Wendy Jo Carey, Albany Engineering Corporation, 5 Washington Square, Albany, NY 12205, Email: wendy@albanyengineering.com.

Dated: August 25, 2025.
Debbie-Anne A. Reese,
Secretary.

[FR Doc. 2025-16564 Filed 8-27-25; 8:45 am]

BILLING CODE 6717-01-P